DEPARTMENT OF EDUCATION

Office of Innovation and Improvement; Overview Information; Congressional Academies for Students of American History and Civics Education

Notice inviting applications for new awards for fiscal year (FY) 2006.

Catalog of Federal Domestic Assistance (CFDA) Number: 84.215D.

Dates: Applications Available: February 6, 2006.

Deadline for Notice of Intent to Apply: March 8, 2006.

Deadline for Transmittal of Applications: April 7, 2006.

Deadline for Intergovernmental Review: June 6, 2006.

Eligible Applicants: Institutions of higher education (IHEs), museums, libraries, and other public and private agencies, organizations, and institutions (including for-profit organizations) or a consortium of such agencies, organizations, and institutions.

Applicants are required to submit in their applications evidence of their organization's demonstrated expertise in historical methodology or the teaching of history.

Note: If more than one eligible entity wishes to form a consortium and jointly submit a single application, they must follow the procedures for group applications described in 34 CFR 75.127 through 34 CFR 75.129 of the Education Department General Administrative Regulations (EDGAR).

Estimated Available Funds: $700,000.

Estimated Range of Awards: $250,000 to $700,000 for each 12-month budget period (up to 3 budget periods). Funding for the subsequent years is subject to the availability of funds and the approval of continuation awards (see 34 CFR 75.253).

Estimated Number of Awards: 1-2.

The number of awards made under this competition will depend upon the quality of the applications received. The size of the awards will depend upon the scope of the projects proposed. Contingent upon the availability of funds and the quality of applications, the Department may make additional awards in FY 2007 from the list of unfunded applications from this competition.

Note: The Department is not bound by any estimates in this notice.

Project Period: Up to 36 months.

Budget Period: 12 months. (The first budget period is the first 12 months of the project period; the second budget period commences on the first day following the first budget period and so on.)

Full Text of Announcement

I. Funding Opportunity Description

Purpose of Program: This program supports the establishment of Congressional Academies for Students of American History and Civics for students to develop a broader and deeper understanding of these subject matters (Congressional Academies).

Priorities: This competition contains one absolute priority and one invitational priority. We are establishing the absolute priority in accordance with section 437(d)(1) of the General Education Provisions Act (GEPA).

Absolute Priority: For FY 2006 and any subsequent year in which we make awards from the list of unfunded applicants from this competition, this priority is an absolute priority. Under 34 CFR 75.105(c)(3) we consider only applications that meet this absolute priority.

This priority is:

Absolute Priority—Congressional Academies for Students of American History and Civics

An applicant for a Congressional Academy must—

(a) Propose a project that would serve high school students and be designed to enrich their understanding of American history and civics;

(b) Propose a project that would provide a summer residential Academy that does not replace a current, established program;

(c) Demonstrate, in its application, how specific civics and traditional American history content will be covered by the project, including the following:

(1) Civics content: The development and function of local, State, and Federal governments and citizens' responsibilities with respect to these institutions.

(2) Traditional American history content:

(i) Significant issues, episodes, and turning points in the history of the United States.

(ii) How the words and deeds of individuals have determined the course of the United States.

(iii) How the principles of freedom and democracy articulated in the founding documents of the United States have shaped the Nation's struggles and achievements as well as its social, political, and legal institutions and relations; and

(d) Propose an evaluation of the success of the project in achieving project objectives that will provide quality data related to the performance measure for this program listed in section VI. 4 of this notice.

The evaluation plan must be designed to shape the development of the project from the beginning of the project period. The plan must include benchmarks that monitor progress toward specific project objectives and performance measures in order to assess the project's impact on teaching, learning, and other important outcomes for project participants. More specifically, the plan must identify the individual(s) or organization(s) that will evaluate the project and describe their qualifications. The plan must describe the evaluation design, indicating: (1) What types of data will be collected; (2) when various types of data will be collected; (3) what methods of evaluation will be used; (4) what instruments will be developed and when; (5) how the data will be analyzed; (6) when reports of results and outcomes will be available; and (7) how the applicant will use the evaluation to monitor progress of the project and to provide accountability information both about success at the initial site and about effective strategies for replication of the academy in other settings. Applicants are encouraged to devote an appropriate level of resources to the project evaluation.

Invitational Priority: For FY 2006 this priority is an invitational priority. Under 34 CFR 75.105(c)(1) we do not give an application that meets this invitational priority a competitive or absolute preference over other applications.

This priority is:

Invitational Priority—Schools in High-Need Local Educational Agencies (LEAs)

The proposed project will include a significant proportion of project participants from schools in high-need LEAs. As defined in section 2102(3) of the Elementary and Secondary Education Act of 1965, as amended (ESEA), a “high-need” LEA is an LEA—

(a)(1) That serves not fewer than 10,000 children from families with incomes below the poverty line (as defined in section 9101(33) of ESEA), or (2) for which not less than 20 percent of the children served by the LEA are from families with incomes below the poverty line; or

(b) For which there is (1) a high percentage of teachers not teaching in the academic subjects or grade levels the teachers were trained to teach, or (2) a high percentage of teachers with emergency, provisional, or temporary certification or licensing.

Waiver of Proposed Rulemaking: Under the Administrative Procedure Act (5 U.S.C. 553) the Department generally offers interested parties the opportunity to comment on proposed priorities, selection criteria, and eligibility requirements. Section 437(d)(1) of GEPA (20 U.S.C. 1232(d)(1)), however, allows the Secretary to exempt from rulemaking requirements, regulations governing the first grant competition under a new or substantially revised program authority. This is the first grant competition for the Congressional Academies for Students of American History and Civics Education program under the American History and Civics Education Act of 2004 and, therefore, it qualifies for this exemption. In order to ensure timely grant awards, the Secretary has decided to forgo public comment on the absolute priority, selection criteria, and eligibility requirements in this notice under section 437(d)(1) of GEPA. This absolute priority and these selection criteria and eligibility requirements will apply to the FY 2006 grant competition and any subsequent year in which we make awards based on the list of unfunded applicants from this competition.

Program Authority: 20 U.S.C. 6713.

Applicable Regulations: EDGAR in 34 CFR parts 74, 75, 77, 79, 80, 81, 82, 84, 85, 86, 97, 98, and 99.

Note: The regulations in 34 CFR part 79 apply to all applicants except federally recognized Indian tribes.

Note: The regulations in 34 CFR part 86 apply to IHEs only.

Note: The regulations in 34 CFR part 99 apply to an educational agency or institution.

II. Award Information

Type of Award: Discretionary grants.

Estimated Available Funds: $700,000.

Estimated Range of Awards: $250,000 to $700,000 for each 12-month budget period (up to 3 budget periods). Funding for the subsequent years is subject to the availability of funds and the approval of continuation awards (see 34 CFR 75.253).

Estimated Number of Awards: 1-2.

The number of awards made under this competition will depend upon the quality of the applications received. The size of the awards will depend upon the scope of the projects proposed. Contingent upon the availability of funds and the quality of applications, we may make additional awards in FY 2007 from the list of unfunded applications from this competition.

Note: The Department is not bound by any estimates in this notice.

Project Period: Up to 36 months.

Budget Period: 12 months. (The first budget period is the first 12 months of the project period; the second budget period commences on the first day following the first budget period and so on.)

III. Eligibility Information

1. Eligible Applicants

Institutions of higher education (IHEs), museums, libraries, and other public and private agencies, organizations, and institutions (including for-profit organizations) or a consortium of such agencies, organizations, and institutions.

Applicants are required to submit in their application evidence of their organization's demonstrated expertise in historical methodology or the teaching of history.

Note: If more than one eligible entity wishes to form a consortium and jointly submit a single application, they must follow the procedures for group applications described in 34 CFR 75.127 through 34 CFR 75.129 of EDGAR.

2. Cost Sharing or Matching

This competition does not involve cost sharing or matching.

IV. Application and Submission Information

1. Address To Request Application Package

Education Publications Center (ED Pubs), P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.215D.

Individuals with disabilities may obtain a copy of the application package in an alternative format (e.g., Braille, large print, audiotape, or computer diskette) by contacting the program contact person listed under FOR FURTHER INFORMATION CONTACT in Section VII of this notice.

2. Content and Form of Application Submission

Requirements concerning the content of an application, together with the forms you must submit, are in the application package for this competition.

Notice of Intent to Apply: The Department is requesting those entities that are considering submitting an application to indicate their intent in a short e-mail addressed to Kelly O'Donnell at Academies@ed.gov. The e-mail should include the name of the organization that will be submitting the application(s). The e-mail need not include information regarding the content of the proposed application, only the applicant's intent to submit it. Applicants that fail to supply this e-mail notification may still apply for funding under this program.

Page Limit: The application narrative is where you, the applicant, address the selection criteria that reviewers use to evaluate your application. All of the information addressing the selection criteria and the priorities must be included in the narrative section of the application. It is strongly suggested that you limit the narrative of your application to the equivalent of no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The suggested page limit does not apply to the cover sheet; the budget section, including the narrative budget justification; the assurances and certifications; or the one-page abstract, the resumes, the bibliography, the evidence of eligibility, or the letters of support.

3. Submission Dates and Times

Applications Available: February 6, 2006.

Deadline for Notice of Intent To Apply: March 8, 2006.

Deadline for Transmittal of Applications: April 7, 2006.

Applications for grants under this competition must be submitted electronically using the Grants.gov Apply Site (Grants.gov). For information (including dates and times) about how to submit your application electronically or by mail or hand delivery if you qualify for an exception to the electronic submission requirement, please refer to section IV.6. Other Submission Requirements in this notice.

We do not consider an application that does not comply with the deadline requirements.

Deadline for Intergovernmental Review: June 6, 2006.

4. Intergovernmental Review

This competition is subject to Executive Order 12372 and the regulations in 34 CFR part 79. Information about Intergovernmental Review of Federal Programs under Executive Order 12372 is in the application package for this competition.

5. Funding Restrictions

We reference regulations outlining funding restrictions in the Applicable Regulations section of this notice.

6. Other Submission Requirements

Applications for grants under this competition must be submitted electronically unless you qualify for an exception to this requirement in accordance with the instructions in this section.

a. Electronic Submission of Applications

Applications for grants under the Congressional Academies for American History and Civics Education competition—CFDA Number 84.215D must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Congressional Academies for American History and Civics at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Kelly O'Donnell, U.S. Department of Education, 400 Maryland Avenue, SW., room 4W253, Washington, DC 20202-5960. Fax: (202) 401-8466.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.215D), 400 Maryland Avenue, SW., Washington, DC 20202-4260; or

By mail through a commercial carrier:

U.S. Department of Education, Application Control Center—Stop 4260, Attention: (CFDA Number 84.215D), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.215D), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: We will use the following selection criteria to evaluate applications under this competition. The maximum score for all of these criteria is 100 points. The maximum score for each criterion is indicated in parentheses.

a. Quality of the project design (25 points). In determining the quality of the design of the proposed project, the Secretary considers the following factors:

(i) The extent to which the proposed project represents an exceptional approach to the absolute priority established for the competition.

(ii) The extent to which the proposed project is designed to build capacity and yield results that will extend beyond the period of Federal financial assistance.

b. Significance (40 points). In determining the significance of the proposed project, the Secretary considers the following factors:

(i) The demonstrated expertise and experience of the organization in history or civics or the teaching of history or civics.

(ii) The format in which the project will deliver the history and civics content, including but not limited to, the reading list and syllabus for the academy.

(iii) The quality of the staff and consultants responsible for conducting project activities, emphasizing, where relevant, their teaching experience and scholarship in subject areas relevant to the teaching of traditional American history and civics. The applicant should include the curriculum vitae for these individuals in appendices to the grant application.

c. Quality of Management Plan (15 points). In determining the quality of the management plan for the proposed project, the Secretary considers the following factors:

(i) The adequacy of the management plan to achieve the objectives of the proposed project on time and within budget, including clearly defined responsibilities, timelines, and milestones for accomplishing project tasks.

(ii) The extent to which the time commitments of the project director and other key project personnel are appropriate and adequate to meet the objectives of the proposed project.

d. Quality of Project Evaluation (20 points). In determining the quality of the evaluation, the Secretary considers the extent to which the methods of evaluation include the use of objective performance measures that are clearly related to the intended outcomes of the project and will produce quantitative and qualitative data to the extent possible.

VI. Award Administration Information

1. Award Notices

If your application is successful, we notify your U.S. Representative and U.S. Senators and send you a Grant Award Notification (GAN). We may also notify you informally.

If your application is not evaluated or not selected for funding, we notify you.

2. Administrative and National Policy Requirements

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting

At the end of your project period, you must submit a final performance report, including financial information, as directed by the Secretary. If you receive a multi-year award, you must submit an annual performance report that provides the most current performance and financial expenditure information as specified by the Secretary in 34 CFR 75.118. For specific requirements on grantee reporting, please go to: http://www.ed.gov/fund/grant/apply/appforms/appforms.html.

4. Performance Measures

In response to the Government Performance and Results Act of 1993 (GPRA), the Department has established one overall performance indicator for assessing the effectiveness of the Congressional Academies for Students of American History and Civics Education program: Students will demonstrate through pre- and post-assessments an increased understanding of American history and civics that can be directly linked to their participation in the Congressional Academy. We will track this indicator through the use of the following measure. We will gather the data for this measure from the grantees.

Measure: The average percentage gain on a student assessment after participation in the Congressional Academy.

VII. Agency Contact

FOR FURTHER INFORMATION CONTACT: Kelly O'Donnell, U.S. Department of Education, 400 Maryland Avenue, SW., room 4W253, Washington, DC 20202-5960. Telephone: (202) 205-5231 or by e-mail: Academies@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 1, 2006.
Christopher J. Doherty,
Acting Assistant Deputy Secretary for Innovation and Improvement.

[FR Doc. 06-1077 Filed 2-3-06; 8:45 am]

BILLING CODE 4000-01-P